OVERSEAS PRIVATE INVESTMENT CORPORATION

Memorandum on the Delegation of Functions and Authorities Under the Better Utilization of Investments Leading to Development Act of 2018

AGENCY: Overseas Private Investment Corporation.

ACTION: Notice.

A “Memorandum on the Delegation of Functions and Authorities under the Better Utilization of Investments Leading to Development Act of 2018” was issued by the President on September 24, 2019. The President authorized and directed the President of the Overseas Private Investment Corporation to publish this memorandum in the Federal Register. The text of the memorandum is set out below.

Dated: September 24, 2019.
Catherine F.I. Andrade,
Corporate Secretary, Overseas Private Investment Corporation.

MEMORANDUM FOR

THE PRESIDENT OF THE OVERSEAS PRIVATE INVESTMENT CORPORATION

THE ADMINISTRATOR OF THE UNITED STATES AGENCY FOR INTERNATIONAL DEVELOPMENT

SUBJECT: Delegation of Functions and Authorities under the Better Utilization of Investments Leading to Development Act of 2018

By the authority vested in me as President by the Constitution and the laws of the United States of America, including section 1462 of title VI of division F of Public Law 115-254 (section 9682 of title 22, United States Code) (the “Act”), and section 301 of title 3, United States Code, I hereby delegate to the President of the Overseas Private Investment Corporation, in consultation with the Administrator of the United States Agency for International Development, the functions and authorities vested in the President by the Act to submit a reorganization plan, including any modifications or revisions thereto, and to consult with the appropriate congressional committees on such plan, including any modifications and revisions thereto.

The President of the Overseas Private Investment Corporation is authorized and directed to publish this memorandum in the Federal Register.

DONALD J. TRUMP

THE WHITE HOUSE

Washington, September 24, 2019

[FR Doc. 2019-21181 Filed 9-27-19; 8:45 am]

BILLING CODE 3210-01-P